ENVIRONMENTAL PROTECTION AGENCY

[FRL-10227-01-R9]

Clean Air Act Operating Permits; Arizona; Petitions To Object to Permits for the Coronado Generating Station, Desert Basin Generating Station, and Agua Fria Generating Station

AGENCY: Environmental Protection Agency (EPA).

ACTION: Notice of final action.

SUMMARY: The Environmental Protection Agency (EPA) Administrator signed three Orders granting in part and denying in part petitions to object to three Clean Air Act (CAA) title V operating permits issued to power plants in Arizona. The Orders relate to the operating permits for Coronado Generating Station, issued by the Arizona Department of Environmental Quality (ADEQ); Desert Basin Generating Station, issued by the Pinal County Air Quality Control District (PCAQCD); and Agua Fria Generating Station issued by the Maricopa County Air Quality Department (MCAQD). The Orders respond to petitions submitted by the Sierra Club (the “Petitioner”) requesting that the EPA object to the issuance of the operating permits for these facilities. The Orders constitute final action on the request that the Administrator object to the issuance of these CAA title V operating permits.

DATES: Pursuant to section 307(b)(1) of the Clean Air Act, 42 U.S.C. 7607(b)(1), judicial review of this final agency action, to the extent it is available, may be sought by filing a petition for review in the United States Court of Appeals for the Ninth Circuit within 60 days of September 30, 2022.

ADDRESSES: Copies of the petitions and Orders are available at https://www.epa.gov/title-v-operating-permits/title-v-petition-database. For additional information, please contact the person identified in the FOR FURTHER INFORMATION CONTACT section.

FOR FURTHER INFORMATION CONTACT: Lisa Beckham, EPA Region 9, 75 Hawthorne Street (AIR-3-1), San Francisco, California 94105. By phone at (415) 972-3811, or by email at beckham.lisa@epa.gov.

SUPPLEMENTARY INFORMATION: The CAA affords the EPA a 45-day period to review and, as appropriate, the authority to object to operating permits proposed by state and local permitting authorities under title V of the CAA, 42 U.S.C. 7661-7661f. Section 505(b)(2) of the CAA and 40 CFR 70.8(d) authorize any person to petition the EPA Administrator to object to a title V operating permit within 60 days after the expiration of the EPA's 45-day review period if the EPA has not objected on its own initiative. Petitions must be based only on objections to the permit that were raised with reasonable specificity during the public comment period provided by the permitting authority, unless the petitioner demonstrates that it was impracticable to raise these issues during the comment period or the grounds for the issues arose after the comment period closed.

As listed below, the EPA received and responded to three petitions from the Petitioner that were submitted pursuant to section 505(b)(2) of the CAA and 40 CFR 70.8(d) for title V operating permits issued to three electric power generating facilities in Arizona.

Coronado Generating Station. On January 10, 2022, the EPA received a petition requesting that the EPA object to the CAA title V operating permit issued by the ADEQ for the Salt River Project's Coronado Generating Station (Permit No. 89460) in Apache County, Arizona. On June 14, 2022, the EPA issued an Order responding to the petition by granting the petition in part and denying the petition in part.

Desert Basin Generating Station. On February 8, 2022, the EPA received a petition requesting that the EPA object to the CAA title V operating permit issued by the PCAQCD for the Salt River Project's Desert Basin Generating Station (Permit No. V20678.R02) in Pinal County, Arizona. On July 28, 2022, the EPA issued an Order responding to the petition by granting the petition in part and denying the petition in part.

Agua Fria Generating Station. On February 28, 2022, the EPA received a petition requesting that the EPA object to the CAA title V operating permit issued by the MCAQD for the Salt River Project's Agua Fria Generating Station (Permit No. P0007595) in Maricopa County, Arizona. On July 28, 2022, the EPA issued an Order responding to the petition by granting the petition in part and denying the petition in part.

The Orders provide additional information, including a summary of the claims raised and the EPA's detailed basis for its determination to grant or deny the claims raised by the Petitioner. Please see the ADDRESSES section above to access copies of the Orders.

Dated: September 26, 2022.
Martha Guzman Aceves,
Regional Administrator, Region IX.

[FR Doc. 2022-21240 Filed 9-29-22; 8:45 am]

BILLING CODE 6560-50-P